MILLENNIUM CHALLENGE CORPORATION

[MCC FR 16-06]

Millennium Challenge Corporation Advisory Council Notice of Open Meeting

AGENCY: Millennium Challenge Corporation.

ACTION: Notice.

SUMMARY: In accordance with the requirements of the Federal Advisory Committee Act, 5 U.S.C.—App., the Millennium Challenge Corporation (MCC) Advisory Council was established as a discretionary advisory committee on June 14, 2016 to serve MCC in a solely advisory capacity and provide insight regarding innovations in infrastructure, technology and sustainability; perceived risks and opportunities in MCC partner countries; new financing mechanisms for developing country contexts; and shared value approaches. The Advisory Council provides a platform for systematic engagement with the private sector and other external stakeholders and contributes to MCC's mission—to reduce poverty through sustainable, economic growth.

Time and Place: Thursday, October 13, 2016 from 8:30 a.m.-1:45 p.m. which includes a working lunch. The meeting will be held at the Millennium Challenge Corporation, 1099 14th St. NW., Suite 700, Washington, DC 20005.

Agenda: During the inaugural meeting of the MCC Advisory Council, members will be provided with an overview of MCC's work, discuss trends in international development and how MCC can continue to innovate and MCC will seek advice from the Council members on MCC's Compact program in Benin.

Public Participation: The meeting will be open to the public. Members of the public may file written statement(s) before or after the meeting. If you plan to attend, please submit your name and affiliation no later than Wednesday, October 5 to MCCAdvisoryCouncil@mcc.gov to be placed on an attendee list.

FOR FURTHER INFORMATION CONTACT: For further information, contact Beth Roberts at MCCAdvisoryCouncil@mcc.gov or 202-521-3600 or visit https://www.mcc.gov/about/org-unit/advisory-council.

Sarah E. Fandell,
VP/General Counsel and Corporate Secretary, Millennium Challenge Corporation.

[FR Doc. 2016-23569 Filed 9-28-16; 8:45 am]

BILLING CODE 9211-03-P